DEPARTMENT OF DEFENSE

Department of the Army, Corps of Engineers

Notice of Intent To Prepare a Supplemental Environmental Impact Statement to the Revised Programmatic Environmental Impact Statement (RPEIS) for the Morganza to the Gulf of Mexico, Louisiana, Hurricane and Storm Damage Risk Reduction Project (MTG)

AGENCY: U.S. Army Corps of Engineers, Department of the Army, DoD.

ACTION: Notice of intent.

SUMMARY: The U.S. Army Corps of Engineers (USACE), Mississippi Valley Division, New Orleans District (CEMVN), is announcing its intent to prepare a Supplemental Environmental Impact Statement (SEIS) to evaluate design changes to the authorized MTG project to meet the one percent Annual Exceedance Probability (AEP) Storm Surge Risk Reduction (100-year level of risk reduction (LORR)). This EIS supplements the Revised Programmatic EIS (RPEIS), MTG, Louisiana, that was integrated with the 2013 Final Post Authorization Change Report (PACR). The 2013 Integrated RPEIS and PACR was approved in the Chief's Report that was signed July 8, 2013. The Record of Decision (ROD) was signed on December 9, 2013.

DATES: All comments and suggestions must be submitted by July 22, 2024.

ADDRESSES: To ensure the Corps has sufficient time to consider public input in the preparation of the Draft EIS, scoping comments should be submitted by email at mvnenvironmental@usace.army.mil, by surface mail to U.S. Army Corps of Engineers, U.S. Army Corps of Engineers, New Orleans District, Attn: CEMVN-PDC-C, 7400 Leake Avenue, New Orleans, Louisiana 70118, or at the Scoping Meeting(s).

FOR FURTHER INFORMATION CONTACT: Questions and scoping comments regarding the proposed action should be directed to Ms. Sandra Stiles at U.S. Army Corps of Engineers, New Orleans District, Attn: CEMVN-PDS, 7400 Leake Avenue, New Orleans, Louisiana 70118, by phone (504) 862-2862, or by email at Sandra.E.Stiles@usace.army.mil.

SUPPLEMENTARY INFORMATION:

Background: The MTG hurricane and storm damage risk reduction project is a levee system located approximately 60 miles southwest of New Orleans, Louisiana and includes most of Terrebonne Parish and a portion of Lafourche Parish between the Terrebonne Parish eastern boundary and Bayou Lafourche. The purpose of this project is to reduce the risk of damage caused by hurricane storm surges. A review of the project is needed because of the increasing susceptibility of coastal communities to storm surge due to wetland loss, sea level rise, and subsidence. The MTG Project was initially authorized by Section 1001(24) of the Water Resources Development Act (WRDA) of 2007 (Pub. L. 110-114) in accordance with the Reports of the Chief of Engineers dated 23 August 2002 and 22 July 2003, at a total cost of $886.7 million. The project was redesigned in the 2013 Integrated RPEIS and PACR Report, both to address the project cost increase beyond the statutory limitation in accordance with Section 902 of the WRDA of 1986, as amended, and to meet updated post-Hurricane Katrina design guidelines. The MTG Project was subsequently re-authorized by Section 7002(3)5 of the WRRDA of 2014 (Pub. L. 113-121) in accordance with the Report of the Chief of Engineers dated 8 July 2013, at an updated total cost of $10,265,100,000. The MTG project was authorized to provide the 1% AEP level of hurricane and storm damage risk reduction while maintaining navigational passage and tidal exchange. The project consists of approximately 98 miles of levee including associated navigation, roadway, pump station fronting protection, and environmental control structures. The 2013 RPEIS provided an assessment for both programmatic and constructible features for the MTG project. Constructible features consisted of those project features that were determined to have sufficient design details to be constructed. Constructible features included levee reaches F1, F2, G1; the HNC Lock; and the Bayou Grand Caillou Floodgate. The remaining features were designed to a programmatic design level that would require supplemental National Environmental Policy Act (NEPA) documentation prior to construction. The mitigation plan for the constructible features included restoration of 427 acres of intermediate marsh, 358 acres of brackish marsh and 975 acres of saline marsh.

This SEIS will disclose the context and intensity of environmental impacts, including indirect and cumulative effects, for the final array of levee alignments and associated features. Any required mitigation will also be discussed.

Alternatives: The SEIS will evaluate the PACR alignment as identified in the 2013 Integrated RPEIS and PACR Report to include a reasonable range of alignment modifications that considers existing levee alignments, the least environmental damaging preferred alignment maximizing avoidance and minimization measures to sensitive habitats as well as the no action alternative. Major Features of the project include: (1) Approximately 98 miles of earthen levee, with final levee elevations ranging from 15 feet to 26.0 feet North American Vertical Datum 1988 (NAVD88) plus overbuild and final levee widths from approximately 146 to 446 feet; (2) The Houma Navigation Canal lock complex (HNC Lock) with lock sill depth of −18 feet; (3) Construction on navigable waterways of 21 other floodgates such as stop log gates, barge gates, and sector gates; (4) Environmental water control structures at numerous locations within the levee system. Each control structure would consist of one or more culverts with gates that allow for tidal exchange; (5) Measures to offset the potential for increased water levels on the existing Larose to Golden Meadow project.

Summary of Expected Effects: The SEIS will analyze the potential impacts on the human and natural environment resulting from the proposed actions for the Project. The scoping, public involvement, and interagency coordination processes are requesting data and information to help identify and define the range of potential significant issues that will be considered. Resources and issues that may be significantly impacted may include tidal wetlands and other waters of the U.S.; aquatic resources; essential fish habitat; threatened and endangered species and their critical habitats; cultural resources; soils; navigation and navigable waters; transportation and traffic; hydrology and hydraulics; induced flooding; environmental justice; and cumulative effects of related projects in the regional area.

Environmental Reviews and Consultation Requirements: The alternatives are being coordinated with federal, state, regional, and local agencies. In accordance with relevant environmental laws and regulations, USACE will consult with the following agencies some of which may also serve as cooperating or participating agencies in the EIS preparation: Department of Interior's U.S. Fish and Wildlife Service (USFWS) under the Fish and Wildlife Coordination Act; USFWS and National Oceanic and Atmospheric Administration's (NOAA) under the Endangered Species Act; National Marine Fisheries Service (NMFS) under the Magnuson-Stevens Fishery Conservation and Management Act; Louisiana's Department of Natural Resources (LDNR) under the Coastal Zone Management Act; and Louisiana Department of Environmental Quality (LDEQ) under the Clean Water Act, Section 401 Water Quality Certification; and, the Advisory Council on Historic Preservation (ACHP), Louisiana's Historic Preservation Office (SHPO), and appropriate Tribal Historic Preservation Officers under the National Historic Preservation Act (NHPA) using an integrated NHPA Section 106/NEPA EIS process.

NEPA Schedule: The draft SEIS is presently scheduled to be available for public review and comment in June 2025. A 45-day public review period will be provided for interested parties and agencies to review and comment on this draft document. All interested parties are encouraged to respond to this notice and provide a current address if they wish to be notified of the Draft EIS circulation. A Record of Decision would be approved and signed no earlier than 30 days after the Final EIS is published.

Public Involvement and Scoping: The following agencies are being invited as Cooperating Agencies on the SEIS: Environmental Protection Agency (EPA), USFWS, NMFS, U.S. Department of Agriculture's Natural Resources Conservation Service (NRCS), ACHP, Louisiana's SHPO, LDNR, Louisiana's Department of Wildlife and Fisheries (LDWF), and Louisiana's Coastal Protection and Restoration Authority.

USACE invites all affected federal, state, and local agencies, affected Federally recognized Indian Tribes, other interested parties, and the general public to participate in the National Environmental Policy Act (NEPA) process during development of the DEIS. Besides providing information, this notice requests input on alternatives and issues of concern.

To ensure that public comments are considered in the DEIS preparation process, members of the public, interested persons and entities must submit their comments to USACE by mail, email, or at the Scoping Meeting(s). All comments and suggestions must be submitted by July 22, 2024. All personally identifiable information (for example, name, address, etc.) voluntarily submitted by a commenter may be publicly accessible. Do not submit confidential business information or otherwise sensitive or protected information.

Scoping meeting(s) could be held during the scoping period which extends to July 22, 2024, to present information and receive comments from the public. Notification of the meeting(s) will be publicly announced in advance by USACE through press releases, special public notices, USACE social media platforms, and the project website http://www.mvn.usace.army.mil/About/Projects/Morganza-to-the-Gulf/.

James A. Bodron,
Programs Director, Mississippi Valley Division.

[FR Doc. 2024-13480 Filed 6-18-24; 8:45 am]

BILLING CODE 3720-58-P